DEPARTMENT OF COMMERCE

Foreign-Trade Zones Board

[B-23-2025]

Foreign-Trade Zone (FTZ) 196, Notification of Proposed Production Activity; RECARO Aircraft Seating Americas, LLC; (Aircraft Seats); Fort Worth, Texas

RECARO Aircraft Seating Americas, LLC submitted a notification of proposed production activity to the FTZ Board (the Board) for its facilities in Fort Worth, Texas, within FTZ 196. The notification conforming to the requirements of the Board's regulations (15 CFR 400.22) was received on April 7, 2025.

Pursuant to 15 CFR 400.14(b), FTZ production activity would be limited to the specific foreign-status materials/components described in the submitted notification (summarized below) and subsequently authorized by the Board. The benefits that may stem from conducting production activity under FTZ procedures are explained in the background section of the Board's website—accessible via www.trade.gov/ftz. The proposed materials/components would be added to the production authority that the Board previously approved for the operation, as reflected on the Board's website.

The proposed foreign-status materials/components include gas generators for airbag belt systems, electric storage batteries, electric light emitting diode (LED) light indicators, DC electric power units, and cable wiring harnesses (duty rate ranges from duty-free to 3.4%). The request indicates that certain materials/components are subject to duties under section 1702(a)(1)(B) of the International Emergency Economic Powers Act (section 1702), or section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is May 21, 2025.

A copy of the notification will be available for public inspection in the “Online FTZ Information System” section of the Board's website.

For further information, contact Juanita Chen at juanita.chen@trade.gov.

Dated: April 8, 2025.
Elizabeth Whiteman,
Executive Secretary.

[FR Doc. 2025-06229 Filed 4-10-25; 8:45 am]

BILLING CODE 3510-DS-P